FEDERAL ELECTION COMMISSION

Sunshine Act Notice

Previously Announced Date and Time: Thursday, November 7, 2002, meeting open to the public. This meeting was cancelled.

DATE and TIME: Thursday, November 14, 2002 at 10 a.m.

PLACE: 999 E Street, NW., Washington, DC (Ninth Floor).

STATUS: This meeting will be open to the public.

Items to be Discussed: Correction and Approval of Minutes.

Draft Advisory Opinion 2002-13: Democratic Senatorial Campaign Committee and Democratic Congressional Campaign Committee by counsel, Robert F. Bauer; National Republican Senatorial Committee by counsel, Alexander N. Vogel; National Republican Congressional Committee by General Counsel, Donald F. McGahn II.

Final Audit Report—Campbell for Senate.

Final Audit Report—Committee to Elect Lindsey Graham.

Administrative Matters.

Person to Contact for Information: Mr. Ron Harris, Press Officer, Telephone: (202) 694-1220.

Mary W. Dove,
Secretary of the Commission.

[FR Doc. 02-28642 Filed 11-06-02; 11:08 am]

BILLING CODE 6715-01-M